NUCLEAR REGULATORY COMMISSION

10 CFR Parts 40, 74, 75, and 150

[NRC-2019-0108]

Availability of NUREG/BR-0006 and NUREG/BR-0007

AGENCY: Nuclear Regulatory Commission.

ACTION: NUREG; issuance.

SUMMARY: The U.S. Nuclear Regulatory Commission (NRC) is issuing NUREG/BR-0006, Revision 9, “Instructions for Completing Nuclear Material Transaction Reports,” and NUREG/BR-0007, Revision 8, “Instructions for the Preparation and Distribution of Material Status Reports.” These NUREG brochures provide guidance for licensees submitting material transaction reports and material status reports to the Nuclear Materials Management and Safeguards System.

DATES: NUREG/BR-0006, Revision 9 and NUREG/BR-0007, Revision 8 and its forms became effective on August 31, 2020.

ADDRESSES: Please refer to Docket ID NRC-2019-0108 when contacting the NRC about the availability of information regarding this document. You may obtain publicly available information related to this document using any of the following methods:

Federal Rulemaking Website: Go to https://www.regulations.gov and search for Docket ID NRC-2019-0108. Address questions about Docket IDs in Regulations.gov to Jennifer Borges; telephone: 301-287-9127; email: Jennifer.Borges@nrc.gov. For technical questions, contact the individual listed in the FOR FURTHER INFORMATION CONTACT section of this document.

NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. NUREG/BR-0006, Rev. 9 “Instructions for Completing Nuclear Material Transaction Reports,” is available in ADAMS under Accession No. ML20240A155, and NUREG/BR-0007, Rev 8 “Instructions for the Preparation and Distribution of Material Status Reports” is available in ADAMS under Accession No. ML20240A181.

NRC's Form Library: NRC Forms 740M, 741, 742 and 742C can be accessed on the NRC Form Library at https://www.nrc.gov/reading-rm/doc-collections/forms.

FOR FURTHER INFORMATION CONTACT: Mirabelle Shoemaker, Office of Nuclear Material Safety and Safeguards, U.S. Nuclear Regulatory Commission, Washington, DC 20555-0001; telephone: 301-415-7363, email: Mirabelle.Shoemaker@nrc.gov.

SUPPLEMENTARY INFORMATION:

I. Discussion

A request for comments on Draft NUREG/BR-0006, Rev. 9 (ADAMS Accession No. ML20240A155) and Draft NUREG/BR-0007, Rev 8 (ADAMS Accession No. ML20240A181) was published in the Federal Register on August 15, 2019 (84 FR 41644), with a 90-day comment period ending on November 13, 2019. Comments received on NUREG/BR-0006, Rev. 9 and NUREG/BR-0007, Rev. 8 can be found on the Federal Rulemaking website (https://www.regulations.gov) under Docket ID NRC-2019-0108.

NUREG/BR-0006 and NUREG/BR-0007 provide instructions for reporting information to the Nuclear Materials Management and Safeguards System, as required by NRC regulations. The NRC has revised these documents to provide additional clarification and examples of nuclear material transaction reports and nuclear material status reports, to aid the licensee community in preparing clear and accurate submittals.

Dated: October 15, 2020.
For the Nuclear Regulatory Commission.
James L. Rubenstone,
Chief, Material Control and Accounting Branch, Division of Fuel Management, Office of Nuclear Material Safety and Safeguards.

[FR Doc. 2020-23229 Filed 10-29-20; 8:45 am]

BILLING CODE 7590-01-P